DEPARTMENT OF TRANSPORTATION

Federal Aviation Administration

14 CFR Part 39

[Docket No. FAA-2023-0160; Project Identifier MCAI-2022-01047-R]

RIN 2120-AA64

Airworthiness Directives; Airbus Helicopters

AGENCY: Federal Aviation Administration (FAA), DOT.

ACTION: Notice of proposed rulemaking (NPRM).

SUMMARY: The FAA proposes to adopt a new airworthiness directive (AD) for certain Airbus Helicopters (Airbus) Model AS332C, AS332C1, AS332L, AS332L1, AS332L2, and EC225LP helicopters. This proposed AD was prompted by modifications developed by Airbus to address a report of an emergency exit window that required excessive pushing force to jettison. This proposed AD would require removing skived polytetrafluoroethylene tape (PTFE tape) (if installed) and replacing certain polychloroprene seals with silicone seals, as specified in a European Union Aviation Safety Agency (EASA) AD, which is proposed for incorporation by reference (IBR). This proposed AD would also prohibit installing a jettisonable window unless the actions required by this AD have been accomplished. The FAA is proposing this AD to address the unsafe condition on these products.

DATES: The FAA must receive comments on this NPRM by March 27, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-0160; or in person at Docket Operations between 9 a.m. and 5 p.m., Monday through Friday, except Federal holidays. The AD docket contains this NPRM, any comments received, and other information. The street address for Docket Operations is listed above.

Material Incorporated by Reference:

• For EASA material that is proposed for IBR in this NPRM, contact EASA, Konrad-Adenauer-Ufer 3, 50668 Cologne, Germany; telephone +49 221 8999 000; email ADs@easa.europa.eu; internet easa.europa.eu. You may find the EASA material on the EASA website at ad.easa.europa.eu.

• You may view this material at the FAA, Office of the Regional Counsel, Southwest Region, 10101 Hillwood Pkwy., Room 6N-321, Fort Worth, TX 76177. For information on the availability of this material at the FAA, call (817) 222-5110. This material is also available at regulations.gov under Docket No. FAA-2023-0160.

Other Related Service Information: For Airbus Helicopters service information identified in this NPRM, contact Airbus Helicopters, 2701 North Forum Drive, Grand Prairie, TX 75052; telephone (972) 641-0000 or (800) 232-0323; fax (972) 641-3775; or at airbus.com/helicopters/services/technical-support.html. You may also view this service information at the FAA contact information under Material Incorporated by Reference above.

FOR FURTHER INFORMATION CONTACT: Matt Fuller, AD Program Manager, General Aviation & Rotorcraft Unit, Airworthiness Products Section, Operational Safety Branch, FAA, 10101 Hillwood Pkwy., Fort Worth, TX 76177; telephone (817) 222-5110; email matthew.fuller@faa.gov.

SUPPLEMENTARY INFORMATION:

Comments Invited

The FAA invites you to send any written relevant data, views, or arguments about this proposal. Send your comments to an address listed under ADDRESSES. Include “Docket No. FAA-2023-0160; Project Identifier MCAI-2022-01047-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Matt Fuller, AD Program Manager, General Aviation & Rotorcraft Unit, Airworthiness Products Section, Operational Safety Branch, FAA, 10101 Hillwood Pkwy., Fort Worth, TX 76177; telephone (817) 222-5110; email matthew.fuller@faa.gov. Any commentary that the FAA receives which is not specifically designated as CBI will be placed in the public docket for this rulemaking.

Background

EASA, which is the Technical Agent for the Member States of the European Union, has issued a series of ADs, the most recent being EASA AD 2021-0012, dated January 11, 2021 (EASA AD 2021-0012), to correct an unsafe condition for certain Airbus Model AS 332 C, AS 332 C1, AS 332 L, AS 332 L1, AS 332 L2, and EC 225 LP helicopters.

This proposed AD was prompted by modifications developed by Airbus to address a report of an emergency exit window that required excessive pushing force to jettison. The FAA is proposing this AD to address excessive friction between the jettisonable cabin window and the airframe. This condition, if not addressed, could prevent the window from jettisoning, subsequently affecting the evacuation of passengers during an emergency situation. See EASA AD 2021-0012 for additional background information.

Related Service Information Under 1 CFR Part 51

EASA AD 2021-0012 requires modifying the windows jettisoning system.

This material is reasonably available because the interested parties have access to it through their normal course of business or by the means identified in the ADDRESSES section.

Other Related Service Information

The FAA reviewed Airbus Alert Service Bulletin (ASB) No. AS332-56.00.16, Revision 0, dated February 10, 2020, Airbus ASB No. AS332-56.00.18, Revision 0, dated September 23, 2020, Airbus ASB No. AS332-56.00.20, Revision 0, dated September 23, 2020, Airbus ASB No. AS332-56.00.21, Revision 0, dated September 23, 2020, Airbus ASB No. AS332-56.90.14, Revision 0, dated April 10, 2019, Airbus ASB No. EC225-56A013, Revision 1, dated February 10, 2020, Airbus ASB No. EC225-56A015, Revision 0, dated February 10, 2020, Airbus ASB No. EC225-56A016, Revision 0, dated February 10, 2020, and Airbus ASB No. EC225-56A017, Revision 0, dated February 10, 2020. This service information specifies procedures for modifying the windows jettisoning system. Depending on your helicopter configuration, the service information specifies procedures for removing PTFE tape (if installed), discarding certain internal seal keys and external extraction tapes, installing plugs on certain snap fasteners, removing certain emergency exit installation indications, measuring the thickness of certain windows, replacing certain windows, measuring the clearance between certain windows and the airframe, modifying certain assemblies of the external extraction tape with its associated marking (if necessary), and replacing certain polychloroprene seals with silicone seals.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of these same type designs.

Proposed AD Requirements in This NPRM

This proposed AD would require accomplishing the actions specified in EASA AD 2021-0012, described previously, as incorporated by reference, except for any differences identified as exceptions in the regulatory text of this proposed AD and except as discussed under “Differences Between this Proposed AD and the EASA AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2021-0012 by reference in the FAA final rule. This proposed AD would, therefore, require compliance with EASA AD 2021-0012 in its entirety through that incorporation, except for any differences identified as exceptions in the regulatory text of this proposed AD. Using common terms that are the same as the heading of a particular section in EASA AD 2021-0012 does not mean that operators need comply only with that section. For example, where the AD requirement refers to “all required actions and compliance times,” compliance with this AD requirement is not limited to the section titled “Required Action(s) and Compliance Time(s)” in EASA AD 2021-0012. Service information referenced in EASA AD 2021-0012 for compliance will be available at regulations.gov under Docket No. FAA-2023-0160 after the FAA final rule is published.

Differences Between This Proposed AD and the EASA AD

EASA AD 2021-0012 requires compliance within 250 flight hours or 6 months for certain helicopters not operated over water and within 110 flight hours or 6 months for certain other helicopters operated over water. EASA AD 2021-0012 also requires compliance within 25 months for all other affected helicopters. However, this proposed AD would require compliance within 110 hours time-in-service for all helicopters.

Where the service information referenced in EASA AD 2021-0012 specifies discarding parts, this proposed AD would require removing those parts from service. The service information referenced in EASA AD 2021-0012 specifies contacting Airbus Helicopter to obtain a technical solution, whereas this proposed AD would require repair done in accordance with a method approved by the FAA, EASA, or Airbus Helicopters' EASA Design Organization Approval. The service information referenced in EASA AD 2021-0012 specifies using a video, whereas this proposed AD would not.

This proposed AD would also prohibit installing a jettisonable window unless the actions required by this proposed AD have been accomplished, whereas EASA AD 2021-0012 does not require any installation limitations.

Costs of Compliance

The FAA estimates that this AD, if adopted as proposed, would affect 39 helicopters of U.S. Registry. Labor costs are estimated at $85 per work-hour. Based on these numbers, the FAA estimates the following costs to comply with this proposed AD.

Modifying a window would take about 2 work-hours and parts would cost about $220 for an estimated cost $390 per window. There may be up to twelve affected windows on a helicopter for an estimated cost of up to $4,680 per helicopter and up to $182,520 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2023-0160; Project Identifier MCAI-2022-01047-R.

(a) Comments Due Date

The FAA must receive comments on this airworthiness directive (AD) by March 27, 2023.

(b) Affected ADs

Accomplishing the actions required by this AD terminates all requirements of AD 2020-20-08, Amendment 39-21264 (85 FR 70955, November 6, 2020).

(c) Applicability

This AD applies to Airbus Helicopters Model AS332C, AS332C1, AS332L, AS332L1, AS332L2, and EC225LP helicopters, certificated in any category, as identified in European Union Aviation Safety Agency (EASA) AD 2021-0012, dated January 11, 2021 (EASA AD 2021-0012).

(d) Subject

Joint Aircraft System Component (JASC) Code: 5220, Emergency Exits.

(e) Unsafe Condition

This AD was prompted by a report of an emergency exit window that required excessive pushing force to jettison caused by friction between the jettisonable window and the airframe. The FAA is issuing this AD to prevent excessive friction between the jettisonable cabin window and the airframe. The unsafe condition, if not addressed, could prevent the window from jettisoning, subsequently affecting the evacuation of passengers during an emergency situation.

(f) Compliance

Comply with this AD within the compliance times specified, unless already done.

(g) Requirements

(1) Except as specified in paragraphs (h) and (i) of this AD: Comply with all required actions and compliance times specified in, and in accordance with, EASA AD 2021-0012.

(2) As of the effective date of this AD, do not install a jettisonable window on any helicopter unless the actions required by this AD have been accomplished.

(h) Exceptions to EASA AD 2021-0012

(1) Where EASA AD 2021-0012 requires compliance in terms of flight hours, this AD requires using hours time-in-service.

(2) Where EASA AD 2021-0012 refers to its effective date, the effective date of EASA AD 2019-0107, dated May 16, 2019, and the effective date of EASA AD 2020-0061, dated March 17, 2020, this AD requires using the effective date of this AD.

(3) Where paragraph (1) of EASA AD 2021-0012 specifies compliance within 250 flight hours or 6 months for helicopters not operated over water and within 110 flight hours or 6 months for helicopters operated over water, this AD requires compliance within 110 hours time-in-service (TIS) for Group 1 and Group 2 helicopters, as defined in EASA AD 2021-0012.

(4) Where paragraph (2) of EASA AD 2021-0012 specifies compliance within 25 months, this AD requires compliance within 110 hours TIS.

(5) Where the service information referenced in EASA AD 2021-0012 specifies discarding parts, this AD requires removing those parts from service.

(6) Where the service information referenced in EASA AD 2021-0012 specifies contacting Airbus Helicopters to obtain a technical solution, this AD requires repair done in accordance with a method approved by the Manager, General Aviation & Rotorcraft Section, International Validation Branch, FAA; or EASA; or Airbus Helicopters' EASA Design Organization Approval (DOA). If approved by the DOA, the approval must include the DOA-authorized signature.

(7) Where the service information referenced in EASA AD 2021-0012 specifies to use tooling, this AD allows the use of equivalent tooling.

(8) Where the service information referenced in EASA AD 2021-0012 specifies using a video, this AD does not require using the video.

(9) Paragraph (3) of EASA AD 2021-0012 does not apply to this AD. Refer to paragraph (b) of this AD for affected FAA AD information.

(10) This AD does not adopt the Remarks paragraph of EASA AD 2021-0012.

(i) No Reporting Requirement

Although the service information referenced in EASA AD 2021-0012 specifies to submit certain information to the manufacturer, this AD does not include that requirement.

(j) Special Flight Permit

Special flight permits are prohibited for flights over water with passengers on board.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Additional Information

For more information about this AD, contact Matt Fuller, AD Program Manager, General Aviation & Rotorcraft Unit, Airworthiness Products Section, Operational Safety Branch, FAA, 10101 Hillwood Pkwy., Fort Worth, TX 76177; telephone (817) 222-5110; email matthew.fuller@faa.gov.

(m) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency (EASA) AD 2021-0012, dated January 11, 2021.

(ii) [Reserved]

(3) For EASA AD 2021-0012, contact EASA, Konrad-Adenauer-Ufer 3, 50668 Cologne, Germany; phone: +49 221 8999 000; email: ADs@easa.europa.eu. You may find this material on the EASA website at ad.easa.europa.eu.

(4) You may view this service information at the FAA, Office of the Regional Counsel, Southwest Region, 10101 Hillwood Pkwy., Room 6N-321, Fort Worth, TX 76177. For information on the availability of this material at the FAA, call (817) 222-5110.

(5) You may view this material that is incorporated by reference at the National Archives and Records Administration (NARA). For information on the availability of this material at NARA, email fr.inspection@nara.gov, or go to: www.archives.gov/federal-register/cfr/ibr-locations.html.

Issued on February 1, 2023.
Christina Underwood,
Acting Director, Compliance & Airworthiness Division, Aircraft Certification Service.

[FR Doc. 2023-02605 Filed 2-7-23; 8:45 am]

BILLING CODE 4910-13-P